DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than November 9, 2015.

Interested persons are invited to submit written comments regarding the subject matter of the investigations to the Director, Office of Trade Adjustment Assistance, at the address shown below, not later than November 9, 2015.

The petitions filed in this case are available for inspection at the Office of the Director, Office of Trade Adjustment Assistance, Employment and Training Administration, U.S. Department of Labor, Room N-5428, 200 Constitution Avenue NW., Washington, DC 20210.

Signed at Washington, DC this 15th day of October 2015.
Hope D. Kinglock,
Certifying Officer, Office of Trade Adjustment Assistance.

APPENDIX—144 TAA Petitions Instituted Between 9/14/15 and 10/9/15
TA-W | Subject firm (Petitioners) | Location | Date of institution | Date of petition
90242 | PSC Metals (Workers) | London, KY | 09/14/15 | 09/13/15
90243 | Gildan Garments, Inc. (State/One-Stop) | Northfield, VT | 09/14/15 | 09/11/15
90244 | Tech Mahindra—AT&T (State/One-Stop) | Piscataway, NJ | 09/14/15 | 07/15/15
90245 | Interplex Technologies Corporation (State/One-Stop) | North Haven, CT | 09/14/15 | 09/10/15
90246 | Intel (Workers) | Allentown, PA | 09/14/15 | 08/13/15
90247 | Safran Labinal Power Systems (Workers) | Salisbury, MD | 09/15/15 | 09/14/15
90248 | Safran Labinal Power Systems (Workers) | Salisbury, MD | 09/15/15 | 09/14/15
90249 | Atlas Tube JMC Steel (Workers) | Armorel, AR | 09/15/15 | 09/14/15
90250 | Bank of America (State/One-Stop) | Charlotte, NC | 09/15/15 | 09/10/15
90251 | Caterpillar LPSD (Workers) | Lafayette, IN | 09/15/15 | 08/26/15
90252 | Globe Energy (State/One-Stop) | Owasso, OK | 09/15/15 | 09/15/15
90253 | HTC America (State/One-Stop) | Bellevue, WA | 09/15/15 | 09/10/15
90254 | Leggett & Platt Springs Manufacturing LLC (Company) | Delano, PA | 09/15/15 | 09/14/15
90255 | Lufkin Industries Power Transmission (Workers) | Lufkin, TX | 09/15/15 | 09/14/15
90256 | Phoenix Technology USA (Workers) | Houston, TX | 09/15/15 | 09/14/15
90257 | Honeywell Scanning and Mobility (State/One-Stop) | Skaneateles Falls, NY | 09/16/15 | 09/15/15
90258 | Sivantos (State/One-Stop) | Plymouth, MN | 09/16/15 | 09/15/15
90259 | Dex Media (State/One-Stop) | St. Petersburg, FL | 09/16/15 | 09/15/15
90260 | SK&A Information Services (State/One-Stop) | Irvine, CA | 09/16/15 | 09/15/15
90261 | Verizon (Workers) | Hempstead, NY | 09/16/15 | 09/15/15
90262 | EGS (formerly known as NCO Financial Systems) (State/One-Stop) | St. Joseph, MO | 09/16/15 | 09/14/15
90263 | Annie's Baking LLC (State/One-Stop) | Joplin, MO | 09/16/15 | 09/14/15
90264 | Electro Scientific Industries (Workers) | Portland, OR | 09/17/15 | 09/16/15
90265 | Osram-Sylvania, Inc.—Glass Technologies Division (Company) | Wellsboro, PA | 09/17/15 | 09/16/15
90266 | Jacques Ebert Associates (State/One-Stop) | Glen Cove, NY | 09/18/15 | 09/17/15
90267 | Georgia Pacific (Union) | Phillips, WI | 09/18/15 | 09/17/15
90268 | Computer Science Corporation (CSC) (State/One-Stop) | Webster, NY | 09/18/15 | 09/17/15
90269 | Elster Solutions (Company) | Raleigh, NC | 09/18/15 | 09/17/15
90270 | Milano Design Concept, Inc. (State/One-Stop) | Los Angeles, CA | 09/21/15 | 09/18/15
90271 | Burlington Northern Santa Fe—Dilworth International Facility (State/One-Stop) | Dilworth, MN | 09/21/15 | 09/18/15
90272 | Gerdau Ameristeel (State/One-Stop) | St. Paul, MN | 09/21/15 | 09/18/15
90273 | Allscripts Healthcare Solutions (State/One-Stop) | South Burlington, VT | 09/21/15 | 09/21/15
90274 | Legacy Measurement Solutions, Inc. (State/One-Stop) | Bristow, OK | 09/21/15 | 09/18/15
90275 | Societe Generale/New Edge (State/One-Stop) | Chicago, IL | 09/21/15 | 09/18/15
90276 | Target (State/One-Stop) | Brooklyn Park, MN | 09/21/15 | 09/18/15
90277 | Kellogg Company (Workers) | Battle Creek, MI | 09/22/15 | 08/28/15
90278 | Breg, Inc. (State/One-Stop) | Plano, TX | 09/22/15 | 06/09/15
90279 | Swiss RE (State/One-Stop) | Overland Park, KS | 09/22/15 | 09/18/15
90280 | SCI Box LLC (State/One-Stop) | Lamar, MO | 09/22/15 | 09/18/15
90281 | Verso (Union) | Wickliffe, KY | 09/22/15 | 09/21/15
90282 | L&M Radiator, Inc. (State/One-Stop) | Independence, IA | 09/22/15 | 09/21/15
90283 | Equifax Inc. (State/One-Stop) | Carlisle, IA | 09/22/15 | 09/21/15
90284 | Bloomington Normal Seating Company (Company) | Normal, IL | 09/23/15 | 09/21/15
90285 | Alleson of Rochester (State/One-Stop) | Geneva, NY | 09/23/15 | 09/21/15
90286 | Verizon Business Network Services—Conferencing Operations (State/One-Stop) | Davenport, IA | 09/23/15 | 09/21/15
90287 | Blackhawk Engineering, Inc. (State/One-Stop) | Cedar Falls, IA | 09/23/15 | 09/22/15
90288 | Cartus Corporation Memphis (State/One-Stop) | Memphis, TN | 09/23/15 | 09/22/15
90289 | Hess Services (State/One-Stop) | Hays, KS | 09/23/15 | 09/22/15
90290 | Pioneer Energy Services (State/One-Stop) | Hays, KS | 09/23/15 | 09/22/15
90291 | Honeywell (State/One-Stop) | Olathe, KS | 09/23/15 | 09/22/15
90292 | Wells Fargo Home Mortgage Servicing—Foreclosure & Bankruptcy Group (State/One-Stop) | West Des Moines, IA | 09/23/15 | 09/21/15
90293 | Wells Fargo (State/One-Stop) | West Des Moines, IA | 09/23/15 | 09/21/15
90294 | U.S. Steel Tubular Processing Houston Operations (Union) | Houston, TX | 09/23/15 | 09/22/15
90295 | Wells Fargo Home Mortgage Group (State/One-Stop) | Des Moines, IA | 09/23/15 | 09/21/15
90296 | Wells Fargo Home Mortgage Group (State/One-Stop) | Urbandale, IA | 09/23/15 | 09/21/15
90297 | Worthington Industries (State/One-Stop) | Skiatook, OK | 09/23/15 | 09/22/15
90298 | Roaring Spring Paper Products (Union) | Martinsburg, PA | 09/25/15 | 09/22/15
90299 | Leon Automotive Interiors (Union) | Wyoming, MI | 09/25/15 | 09/24/15
90300 | Conduit Global (State/One-Stop) | Cordova, TN | 09/25/15 | 09/22/15
90301 | Kennedy Consulting (Company) | Eagle River, AK | 09/25/15 | 09/24/15
90302 | Interfor-Mollalla Division (State/One-Stop) | Molalla, OR | 09/25/15 | 09/24/15
90303 | Hewlett Packard (State/One-Stop) | Pontiac, MI | 09/25/15 | 09/24/15
90304 | U.S. Steel Offshore Operations Houston (Union) | Houston, TX | 09/25/15 | 09/22/15
90305 | HP Enterprise Services, LLC (State/One-Stop) | Des Moines, IA | 09/25/15 | 09/21/15
90306 | Verizon Business Networking Services-Conferencing Operations (State/One-Stop) | Cedar Rapids, IA | 09/25/15 | 09/21/15
90307 | Forest Oil Corporation (State/One-Stop) | Denver, CO | 09/25/15 | 09/23/15
90308 | Arrow Engine Company (State/One-Stop) | Tulsa, OK | 09/25/15 | 09/24/15
90309 | Visteon (State/One-Stop) | Holland, MI | 09/25/15 | 09/24/15
90310 | Hewlett Packard (State/One-Stop) | Colorado Springs, CO | 09/25/15 | 09/23/15
90311 | NTT Data at National Life Group (State/One-Stop) | Montpelier, VT | 09/25/15 | 09/24/15
90312 | Fab-Tech Inc. (State/One-Stop) | Colchester, VT | 09/25/15 | 09/24/15
90313 | D+H USA Corp (State/One-Stop) | Portland, OR | 09/25/15 | 09/24/15
90314 | Pacific Fir Lumber Co. (State/One-Stop) | Sheridan, OR | 09/25/15 | 09/24/15
90315 | HP Enterprise (State/One-Stop) | Overland Park, KS | 09/25/15 | 09/24/15
90316 | Keurig Green Mountain Coffee Roasters (State/One-Stop) | South Burlington, VT | 09/25/15 | 09/24/15
90317 | Nokia Networks (State/One-Stop) | Arlington Heights, IL | 09/25/15 | 09/23/15
90318 | IBM Dubuque Global Delivery Center (State/One-Stop) | Dubuque, IA | 09/25/15 | 09/23/15
90319 | PPG Industries (State/One-Stop) | Burlington, IA | 09/25/15 | 09/23/15
90320 | Atos Business Services Inc. (formerly Xerox) (State/One-Stop) | Cheshire, CT | 09/25/15 | 09/25/15
90321 | Metso Minerals Industries, Inc. (Company) | York, PA | 09/28/15 | 09/21/15
90322 | Jaylor Dental Solutions, Inc. (State/One-Stop) | Beacon, NY | 09/28/15 | 09/15/15
90323 | HP Enterprise Services, LLC (State/One-Stop) | Plano, TX | 09/28/15 | 09/22/15
90324 | CenturyLink (Workers) | Carlisle, PA | 09/28/15 | 09/25/15
90325 | Amsco LTO (Company) | Cranston, RI | 09/28/15 | 09/18/15
90326 | Auto Warehousing Company (Workers) | Normal, IL | 09/28/15 | 09/22/15
90327 | Kyklos Bearings International (Union) | Sandusky, OH | 09/28/15 | 09/18/15
90328 | Georgia-Pacific Corporation (State/One-Stop) | Parchment, MI | 09/28/15 | 09/25/15
90329 | Blount International (Company) | Portland, OR | 09/28/15 | 09/25/15
90330 | Outokumpu Stainless Pipe Co. (Union) | Wildwood, FL | 09/28/15 | 09/25/15
90331 | Kimco Realty Corporation (State/One-Stop) | New Hyde Park, NY | 09/28/15 | 09/25/15
90332 | LexisNexis/Matthew Bender (State/One-Stop) | Albany, NY | 09/28/15 | 09/25/15
90333 | WestRock Iowa City Assembly Plant (State/One-Stop) | Iowa City, IA | 09/28/15 | 09/25/15
90334 | Cummins Filtration (State/One-Stop) | Lake Mills, IA | 09/28/15 | 09/25/15
90335 | Keokuk Steel Castings/Matrix Metals (State/One-Stop) | Keokuk, IA | 09/28/15 | 09/23/15
90336 | Citigroup (State/One-Stop) | Urbandale, IA | 09/28/15 | 09/25/15
90337 | Wilson Trailer Company (State/One-Stop) | Sioux City, IA | 09/28/15 | 09/23/15
90338 | Unverferth Manufacturing Company (State/One-Stop) | Shell Rock, IA | 09/28/15 | 09/23/15
90339 | Verizon Corporate Resources Group—Finance Operations (State/One-Stop) | Cedar Rapids, IA | 09/28/15 | 09/23/15
90340 | Celanese Corp. (Union) | Meredosia, IL | 09/29/15 | 09/26/15
91000 | TitanX Engine Cooling (Company) | Jamestown, NY | 09/30/15 | 09/21/15
91001 | Palmer Johnson Yachts (Company) | Sturgeon Bay, WI | 09/29/15 | 09/17/15
91002 | Newell Rubbermaid (Company) | Freeport, IL | 09/29/15 | 09/28/15
91003 | Topson Downs (State/One-Stop) | Culver City, CA | 09/29/15 | 09/28/15
91004 | Beyondsoft Consulting (Workers) | Boise, ID | 09/30/15 | 09/29/15
91005 | ASARCO (Union) | Hayden, AZ | 09/30/15 | 09/29/15
91006 | Vocollect by Honeywell (Workers) | Monroeville, PA | 09/30/15 | 09/30/15
91007 | Joy Global-Brook Park Operations (Company) | Brook Park, OH | 10/01/15 | 09/30/15
91008 | Expera (State/One-Stop) | Old Town, ME | 10/01/15 | 09/30/15
91009 | Rheem Manufacturing (State/One-Stop) | Fort Smith, AR | 10/01/15 | 09/30/15
91010 | Baker Hughes—Yukon (Workers) | Yukon, OK | 10/01/15 | 09/30/15
91011 | Brown Brothers Harriman (State/One-Stop) | Jersey City, NJ | 10/01/15 | 09/20/15
91012 | American Airlines (Union) | Fort Worth, TX | 10/02/15 | 10/01/15
91013 | Freeport-McMoRan Mining LLC (State/One-Stop) | Tyrone, NM | 10/02/15 | 10/01/15
91014 | Alfa Laval (State/One-Stop) | Broken Arrow, OK | 10/02/15 | 10/01/15
91015 | Sysco (State/One-Stop) | Olathe, KS | 10/02/15 | 10/02/15
91016 | Lattice Semiconductor Corporation (State/One-Stop) | Hillsboro, OR | 10/05/15 | 10/02/15
91017 | Texas Aero Engine Services LLC (Union) | Fort Worth, TX | 10/05/15 | 10/02/15
91018 | Thomson Inc. (State/One-Stop) | Indianapolis, IN | 10/05/15 | 10/02/15
91019 | Alton Steel, Inc. (Union) | Alton, IL | 10/05/15 | 10/02/15
91020 | East Wind Code LTD (Company) | New York, NY | 10/05/15 | 10/01/15
91021 | Triumph Aerostructures, Vought Aircraft Division (Union) | Grand Prairie, TX | 10/05/15 | 09/24/15
91022 | Horizon Well Loggin LLC (State/One-Stop) | Tulsa, OK | 10/05/15 | 10/02/15
91023 | Motorola Mobility LLC (Workers) | Lawrenceville, GA | 10/05/15 | 10/02/15
91024 | Applied Leverage Technology (State/One-Stop) | Sanford, ME | 10/05/15 | 10/02/15
91025 | YKK (State/One-Stop) | Lawrenceburg, KY | 10/06/15 | 10/05/15
91026 | Advanced Micro Devices (State/One-Stop) | Austin, TX | 10/06/15 | 10/06/15
91027 | Indiana Marujun, LLC (Company) | Winchester, IN | 10/06/15 | 10/02/15
91028 | American Electric Power (Union) | Lawrenceburg, IN | 10/06/15 | 09/24/15
91029 | Mersen USA St Mary's—PA Corp. (Company) | St Mary's, PA | 10/06/15 | 09/29/15
91030 | Mitsubishi Motors North America (Workers) | Normal, IL | 10/06/15 | 10/06/15
91031 | Vestas American Wind Technology (State/One-Stop) | Portland, OR | 10/07/15 | 10/06/15
91032 | Motorola Mobility LLC (State/One-Stop) | Plantation, FL | 10/07/15 | 10/06/15
91033 | Weatherford (Wireline) International (Workers) | Houston, TX | 10/07/15 | 10/06/15
91034 | Covidien (Workers) | Mansfield, MA | 10/07/15 | 10/06/15
91035 | Mitsubishi Motors North America, Inc. (State/One-Stop) | Normal, IL | 10/08/15 | 10/07/15
91036 | Halliburton Energy Services (Workers) | Duncan, OK | 10/08/15 | 10/07/15
91037 | PAI—Winona (Company) | Winona, MO | 10/08/15 | 10/07/15
91038 | GC Services (Workers) | El Paso, TX | 10/08/15 | 10/07/15
91039 | Foxconn Assembly (Workers) | Houston, TX | 10/09/15 | 10/08/15
91040 | Verizon Business (Workers) | Cary, NC | 10/09/15 | 10/09/15
91041 | Nike, Inc. (State/One-Stop) | Beaverton, OR | 10/09/15 | 10/08/15
91042 | Airboss Defense Inc. (Workers) | Milton, VT | 10/09/15 | 10/08/15
91043 | Q.E.P. Resources (State/One-Stop) | Tulsa, OK | 10/09/15 | 10/08/15
91044 | Thermal Engineering International (a subsidiary of Babcock Power Inc.) (State/One-Stop) | Joplin, MO | 10/09/15 | 10/08/15

[FR Doc. 2015-27453 Filed 10-27-15; 8:45 am]

BILLING CODE 4510-FN-P